FEDERAL COMMUNICATIONS COMMISSION

47 CFR Parts 2, 21, 25, 74, 78 and 101

[IB Docket No. 98-172; FCC-00-212]

Redesignation of the 18 GHz Frequency Band, Blanket Licensing of Satellite Earth Stations in the Ka-band, and the Allocation of Additional Spectrum for Broadcast Satellite-Service Use

AGENCY: Federal Communications Commission.

ACTION: Final rule.

SUMMARY: This document permits the efficient use of spectrum for existing and future users, and will facilitate the deployment of new services in the 18 GHz band. These designations will significantly reduce sharing in the 18 GHz band, and thereby eliminate the need for many existing coordination procedures, leading to lower transaction costs and more efficient use of the band. The relocation process will take significant effort and commitment on the part of both the space and terrestrial communities. This plan has the potential to provide consumers, both business and residential, with exciting new services in the years to come. The Office of Management and Budget has approved the information collection requirements of 47 CFR 25.145(g), which should have been effective on January 20, 1998. This document establishes that effective date.

DATES: 47 CFR 25.145(g) published at 62 FR 61448 was effective on January 20, 1998, following OMB approval of the information collection. This final rule is effective October 10, 2000. Written comments by the public on the new information collections are due November 6, 2000.

ADDRESSES: Office of the Secretary, 445 12th Street, SW., Washington, DC 20554.

FOR FURTHER INFORMATION CONTACT: Steven Selwyn, Planning & Negotiations Division, International Bureau, (202) 418-2160 or via electronic mail: sselwyn@fcc.gov. In addition to filing comments with the Office of the Secretary, a copy of any comments on the information collections contained herein should be submitted to Judy Boley, Federal Communications Commission, Room 1-C804, 445 12th Street, SW., Washington, DC 20554, or via the Internet to jboley@fcc.gov.

SUPPLEMENTARY INFORMATION: This is a summary of the Commission's Report and Order in IB Docket No. 98-172, FCC 00-212, adopted June 8, 2000 and released June 22, 2000. This R&O contains new information collections. The Commission, as part of its continuing effort to reduce paperwork burdens, invites the general public to comment on the information collections contained in this R&O as required by the Paperwork Reduction Act of 1995, Public Law 104-13. Public and agency comments are due November 6, 2000. Comments should address: (a) Whether the new or modified collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

OMB Control Number: 3060-XXXX (new collection).

Title: Redesignation of the 18 GHz Frequency Band, Blanket Licensing of Satellite Earth Stations in the Ka-band, and the Allocation of Additional Spectrum for Broadcast Satellite-Service Use.

Type of Review: New collection.

Respondents: Business or other for-profit entities.

Number of Respondents: 500.

Estimated Time per Response: 1 to 4 hours.

Frequency of Response: On occasion.

Total Annual Burden: 553 hours.

Total Annual Costs: $0.

Needs and Uses: Information collection requirements contained in this collection will serve to enable the efficient use of spectrum for existing and future users. The information collection requirements will also help facilitate the negotiations process among entities for transition of the 18.58-19.3 GHz band from the terrestrial fixed services to fixed-satellite service.

The full text of this Commission decision is available for inspection and copying during normal business hours in the FCC Reference Center (Room CY-A257) 445 12th Street, SW., Washington, DC and may also be purchased from the Commission's copy contractor, International Transcription Services (ITS), Inc., (202) 857-3800, 1231 20th Street, NW., Washington, DC 20036.

Summary of the Report and Order

1. The Report and Order adopts rules that will permit the efficient use of spectrum for existing and future users, and facilitate the deployment of new services in the 17.7-20.2 GHz band (“18 GHz band”). In particular, we adopt a band plan that designates how terrestrial fixed services, the Geostationary Satellite Orbit Fixed Satellite Service (“GSO/FSS”), the Non-Geostationary Satellite Orbit Fixed-Satellite Service (“NGSO/FSS”), and Mobile-Satellite Service feeder links (“MSS/FL”) are to share this band. As a consequence of this designation, the Report and Order modifies the Table of Frequency Allocations found in § 2.106 of the Commission's Rules. The Report and Order also modifies service rules in the 18 GHz band and authorizes the blanket licensing of satellite earth stations in the bands where the Fixed Satellite Service (“FSS”) is the sole primary designation. Finally, the Report and Order allocates the band 17.3-17.7 GHz to the Broadcasting-Satellite Service (“BSS”), and the band 24.75-25.25 GHz to the FSS for BSS feeder links.

2. The 18 GHz band currently serves a variety of communications needs and has the potential to provide consumers, both business and residential, with exciting new services in the years to come. Our actions in this proceeding will allow for more efficient use of this spectrum. Previously, the entire 18 GHz band was allocated for shared use among various terrestrial fixed and mobile services, the FSS, and the mobile satellite service (“MSS”). We conclude that, in general, separating terrestrial fixed service operations from ubiquitously deployed FSS earth stations in dedicated sub-bands would serve the public interest. We also conclude, however, that limited frequency sharing between satellite and terrestrial services is feasible and should continue to be permitted where it serves the requirements of these services. We have attempted to protect the existing fixed terrestrial operations in this band to the maximum extent possible, while at the same time providing for the growth of both satellite and terrestrial services. The Report and Order should assist both the satellite and terrestrial services in the analysis of future growth possibilities by providing certainty as to how these services may share the 18 GHz band, and thereby enabling the affected industries to make informed business decisions.

3. The band plan that we adopt is a result of an examination of the record developed in response to our 18 GHz NPRM (or “NPRM”). We have considered the concerns expressed in the parties' comments, and have fashioned our decisions to resolve those concerns in as equitable a manner as possible.

4. In the band plan that we adopt, we designate the following spectrum for terrestrial fixed service use: (1) 17.7-18.3 GHz band on a primary basis; (2) 18.3-18.58 GHz band on a co-primary basis (with GSO/FSS); and (3) 19.3-19.7 GHz band on a co-primary basis (with MSS/FL). We designate the following spectrum for GSO/FSS service use: (1) 18.58-18.8 GHz band on a primary basis; and (2) 18.3-18.58 GHz band on a co-primary basis(with terrestrial fixed service), noting that the 19.7-20.2 GHz band is also allocated on a primary basis to the GSO/FSS. Furthermore, we designate the 18.8-19.3 GHz band to NGSO/FSS service use on a primary basis, and retain co-primary status for MSS/FL (with terrestrial fixed service) in the 19.3-19.7 GHz band. These designations will significantly reduce sharing in the 18 GHz band, and thereby eliminate the need for many existing coordination procedures, leading to lower transaction costs and more efficient use of the band. We note that United States Government systems are authorized to operate in the 17.8-20.2 GHz band in accordance with footnote US334 in the United States Table of Frequency Allocations and that coordination between non-Government operations, both terrestrial and satellite, and these Government operations will continue to remain in effect. Nothing in this Report and Order purports to change the relationship between Government and non-Government systems.

5. Recognizing the importance of existing terrestrial fixed service systems in the 18 GHz band, we will permit terrestrial fixed stations currently operating in spectrum designated in this Report and Order for exclusive satellite use, to continue to operate on a co-primary basis for a period of ten years, subject to the overriding right of satellite providers to require terrestrial fixed stations to relocate. During this ten-year period, existing terrestrial fixed stations can be compelled to relocate in accordance with relocation procedures adopted herein. If a terrestrial fixed station is required to relocate within ten years of the effective date of this Report and Order, the satellite provider must pay to relocate the terrestrial fixed station to comparable facilities. At the end of the ten-year period, existing terrestrial fixed stations may continue to operate on a non-interference basis. In the case of 19.26-19.30 GHz, the co-primary status of existing terrestrial fixed stations, as well as their entitlement to relocation costs, is permanent.

6. This Report and Order also authorizes a blanket licensing regime for satellite earth stations for segments of the 17.7-20.2 GHz and 27.5-30.0 GHz frequency bands—which are not subject to sharing with other services. Specifically, we will accept such applications for blanket licensing in the 18.58-18.8 GHz, 18.8-19.3 GHz, 19.7-20.2 GHz, 28.35-28.6 GHz, 28.6-29.1 GHz, and 29.5-30.0 GHz frequency bands. In all those bands designated as primary to the GSO/FSS, we adopt the specific technical conditions concerning space station and earth station performance recommended by the Blanket Licensing Industry Working Group, to ensure that intra-system interference stays within acceptable levels. With respect to the blanket licensing of NGSO/FSS systems, we adopt an equation to determine the power flux-density (pfd) of space stations that, for low elevation angles, includes a consideration of the number of satellites in the NGSO system constellation, which was recommended by technical study groups of the Radiocommunications Sector of the International Telecommunication Union (ITU-R) for inclusion in the ITU's Radio Regulations. The blanket licensing regime adopted in this Report and Order describes the parameters within which earth stations may be operated under a blanket license, as well as the solutions for minimizing potential interference on both an intra- and inter-service basis.

7. This Report and Order also allocates 400 MHz of spectrum at 17.3-17.7 GHz for primary BSS uses, effective April 1, 2007, as specified in the ITU Radio Regulations. We allocate the 24.75-25.05 GHz band for primary GSO/FSS (Earth-to-space) use, limited to feeder links for the BSS in the 17.3-17.7 GHz band, and the GSO/FSS 25.05-25.25 GHz band for co-primary use between the FSS (Earth-to-space), limited to BSS feeder links, and the fixed service, comprised of the 24 GHz Service.

8. A review of the record leads us to conclude that this redesignated band plan results in an equitable and balanced approach to meeting the needs of the various existing and future operations in the 18 GHz band. We recognize that the adopted band plan does not provide a full 1000 Megahertz of unshared Ka-band downlink spectrum for GSO/FSS operations as requested by many GSO/FSS licensees. Nevertheless, we believe that the 720 MHz of unshared downlink spectrum at 18.58-18.8 GHz and 19.7-20.2, in addition to the flexible rules that permit sharing of 280 megahertz at 18.3-18.58 GHz, should provide a reasonable basis for GSO/FSS operations to be undertaken. While we realize that some GSO/FSS systems have already been designed, we expect that the current system designs of the GSO/FSS systems can proceed with some modification or that sharing agreements can be reached to permit the use of these designs. Moreover, we note that the same total capacity for GSO/FSS services is still available in locations where coordination can be achieved. We conclude that this plan will, through the judicious choice of band segments subject to co-primary sharing, significantly lower any consequential administrative costs of coordination. Furthermore, this plan goes a long way toward facilitating the deployment of new services by designating different dedicated sub-bands for ubiquitously deployed FSS earth stations, and nearly ubiquitous terrestrial fixed services in the 18 GHz band, thereby serving the public interest.

9. 17.7-18.3 GHz Frequency Band. We designate the 17.7-18.3 GHz frequency band to terrestrial fixed service for primary use. Prior to this rulemaking proceeding, this segment of the 18 GHz band was designated for shared co-primary use between GSO/FSS and terrestrial fixed service operations. Currently, the 17.7-18.3 GHz band is used for a wide variety of common carrier, mass media, and private fixed terrestrial point-to-point or point-to-multipoint services, as described in parts 74, 78 and 101 of the Commission's Rules. In designating the 17.7-18.3 GHz band for primary use by terrestrial fixed service operators, we recognize that this is an important segment of the 18 GHz band for existing and future terrestrial fixed service operations. We achieve our stated goal of ensuring the continued viability of the terrestrial fixed service by avoiding any future interference from space stations, and the need to relocate stations to protect future earth stations. The redesignation of this band to primary status will also generally facilitate the relocation of terrestrial fixed service operations from other parts of the 17.7-19.7 MHz or other frequency bands, by eliminating the need for coordination with satellite earth stations. It will also facilitate the deployment of new terrestrial fixed stations, by eliminating coordination requirements between the fixed and fixed satellite services, thereby lowering transaction costs for terrestrial fixed operators.

10. Regarding secondary fixed operations in primary satellite designations, we conclude that terrestrial fixed services generally should not be designated for secondary use in either primary GSO/FSS or primary NGSO/FSS bands subject to blanket licensing. We find that the continued licensing of these fixed stations, with the exception of indoor low power operations, is incompatible with the ubiquitous placement of earth stations in the primary satellite service because if located close enough to such stations they may interfere with FSS reception. If we found otherwise we would be encouraging the extension of a condition that we have determined to be incompatible with the ubiquitous distribution of primary satellite services. Regarding the low power fixed systems mentioned in the NPRM, 63 FR 54100 (October 8, 1998), in the 18.82-18.87 and 19.16-19.21 GHz bands, we find that such stations have been licensed on a primary basis and will continue to be so licensed. They will not be subject to the same transition rules as the full power stations in their band. In addition, they will not be subject to the same relocation requirement, since they will be co-primary with the FSS. They will be permitted to continue to operate, and new stations will be licensed subject only to the limitation that they operate indoors. The restriction to indoor use will, of necessity, place some signal attenuating barrier between low power fixed stations and FSS earth stations, which are always located outdoors. While interference could still be possible, the probability of interference is significantly, and acceptably, reduced as the interfering signal is so diminished. Several commenters urged us to eliminate secondary terrestrial fixed service designations in primary FSS bands. With the anticipated deployment of millions of satellite earth stations, we believe that it would be virtually impossible to implement an effective dispute-resolution process to discover terrestrial causes of interference to primary FSS earth stations. The difficulty in identifying the source of interference could have a substantial practical impact on FSS licensees, an impact that they are only responsible to evaluate when they are sharing the band with a primary designated fixed service. Among other things, attempting to identify the cause of interference and then fixing the problem may take time, causing a significant interruption in service. Such delays would raise operating costs for FSS users, and degrade the reliability of the company's service. We believe such circumstances are avoidable by rejecting our proposal to allow terrestrial fixed service operations to use primary FSS spectrum for secondary use services.

11. We believe the band plan adopted herein generally meets the spectrum needs of the respective services designated to operate in the 18 GHz band. We note that, like our NPRM proposal, the band plan we adopt herein provides GSO/FSS with 1000 MHz of spectrum, 720 MHz of which is primary and 280 MHz of which is co-primary. Several satellite commenters desire to obtain a minimum of 1000 MHz of unshared downlink spectrum in the Ka-band. These commenters seem to base their arguments, in part, on the fact that we designated 1000 MHz of uplink spectrum to GSO/FSS in the 28 GHz First Report and Order. The 28 GHz First Report and Order, however, designated 750 MHz of primary uplink spectrum for GSO/FSS systems, and 250 MHz of co-primary uplink spectrum shared with NGSO/FSS systems. We are adopting a similar approach in the downlink band. We generally designate equal amounts of spectrum to GSO/FSS, taking into account systems for uplink and downlink use; and when considering both primary and co-primary spectrum this Report and Order provides just that.

12. We are extending the “cut-off” date for the 18.58-18.8 GHz band because the 18 GHz NPRM stated that the cut-off date would apply in “any band that is proposed to be designated for fixed satellite use on a primary basis.” We note that none of the proposed band plans put forth in the 18 GHz NPRM discussed redesignating the 18.58-18.8 GHz band for primary use by GSO/FSS. Therefore, we believe it is appropriate to move the “cut-off” date forward to coincide with the adoption of the Report and Order, recognizing that applications for terrestrial fixed stations in the 18.58-18.8 GHz band may have been filed since the adoption of the NPRM without specific indication that this band would no longer be available for such use. We note that pursuant to the band plan adopted today, any extension of the “cut-off” date in the 18.3-18.58 GHz band is moot, because the 18.3-18.58 GHz band is designated for terrestrial fixed service and GSO/FSS on a co-primary basis.

13. The Report and Order grants co-primary status to existing terrestrial fixed stations in the 18.58-19.3 GHz band. As a general rule, we agree that the co-primary status should be limited by a sunset period. However, we have found it necessary to permanently grant co-primary status to existing terrestrial fixed stations in the 19.26-19.3 GHz band because the channels in this band are paired with channels that are being retained for primary terrestrial fixed use at 17.7-17.74 GHz, thus magnifying the impact of this redesignation on the fixed service. If we were to impose a ten year sunset period, users of these pairings would likely be required, because of equipment availability, to relocate not only their transmissions in the 19.26-19.30 GHz band, but also their paired transmissions in the 17.7-17.74 GHz. This would be required even though the 17.7-17.74 GHz transmissions are not in a band that would be shared with FSS operations. Because of the significant impact on terrestrial fixed licensees, and since there are few existing fixed stations in this band, we do not believe it is appropriate to sunset the co-primary status, and associated relocation reimbursement rights, of existing terrestrial stations in this band.

14. We believe that a sunset period of ten (10) years for continued co-primary status of existing terrestrial fixed stations in the 18.58-18.8 GHz and 18.8-19.26 GHz frequency band is an appropriate compromise that will allow these systems to continue to operate in these bands, while giving FSS interests the option to pay the cost of relocating such systems if FSS interests want to deploy operations in those areas. We stress that the significance of the ten-year period is limited to identifying the entity that would pay for the relocation of existing terrestrial fixed stations when it is found that such entity, due to the interference it presents, would preclude the establishment of FSS stations. In the absence of an FSS earth station in the vicinity, such an entity could continue to operate beyond the ten-year period. Recognizing this, the fundamental issue here is how long constitutes an adequate period during which the FSS station should pay.

15. Accordingly, we are not requiring a voluntary negotiating period as we previously established for the PCS transition in § 101.69(c). Under our 18 GHz transition rules, FSS licensees may enter into negotiations with co-primary terrestrial fixed services in the 18.58-19.3 GHz band, for the purpose of agreeing to terms under which the terrestrial licensees would either relocate or accept a sharing arrangement. If no agreement is reached within two years for non-public safety incumbents, and three years for public safety incumbents, an FSS licensee may initiate involuntary relocation pursuant to § 101.91 of the rules we are adopting today. We believe these time periods provide a reasonable balance between the needs of new FSS operators to gain access to spectrum, and the needs of existing FS operators to ensure that relocated facilities are provided that meet their needs. We are providing additional mandatory negotiations time for public safety operations, noting comments about the special need of public safety systems to be able to continue to operate reliably during any transition period.

16. In the event that agreement is not reached in any negotiation period, the FSS licensee will have the option of invoking involuntary relocation. In such a case, an FSS licensee would be obligated to relocate only the specific links that cause the interference problem. Under involuntary relocation, a terrestrial fixed station must relocate provided that the FSS licensee guarantees payment of relocation costs, completes all activities necessary for implementing the replacement facilities, and builds and tests the replacement system for comparability. Terrestrial fixed service operators are not required to relocate until the alternative facilities are available for a reasonable time to make adjustments, determine comparability, and ensure a seamless handoff. It would not be in the public interest to allow a right of return to relocated incumbents, as was provided in the Emerging Technologies proceeding. The potential disruption to national, regional or world-wide satellite systems for the benefit of relatively few terrestrial fixed incumbents is infeasible. We will therefore allow an involuntary relocated terrestrial fixed incumbent to petition the Commission for additional modification to, or replacement of its equipment in any case where the incumbent believes it has not received comparable performance from its retuned or replaced equipment. Upon proof shown, we will order the FSS licensee in question to further modify or replace the incumbent terrestrial fixed licensee's equipment. We believe that these safeguards are needed for ensuring comparable terrestrial facilities obviate the need for more lengthy negotiating periods. We note that pursuant to the sunset provisions adopted, an FSS operator generally will no longer be responsible for relocation costs incurred by a terrestrial incumbent after June 8, 2010. By adopting these relocation rules, we put into place a proven system that should lead to efficient relocation and ultimately to the band segmentation that we conclude serves the public interest. We also believe that the relocation rules provide reasonable flexibility to an FSS licensee to establish its operations in a timely and economic manner.

17. Within our negotiation rules, we are also adopting criteria for comparable facilities. Both the existing 2 GHz rules and the rules we proposed in this proceeding include general criteria that must be met for facilities that are provided under involuntary relocation procedures to be considered comparable. In a separate proceeding on the allocation of spectrum at 2 GHz for use by the Mobile-Satellite Service, ET Docket No. 95-18, ICO Services Limited (ICO) suggested that these criteria be included in the section of the rules that governs mandatory negotiations. We believe that this change is appropriate for the negotiation rules we are adopting at 18 GHz, as it would be useful to define the target of negotiations. For this reason, we are including these criteria in § 101.89 of the rules we are adopting.

18. We declined, however, to propose to implement blanket licensing in shared bands. We also proposed requirements to ensure that Ka-band GSO/FSS systems did not cause harmful interference to GSO/FSS systems in adjacent orbital slots. However, due to a lack of information, we did not propose specific blanket licensing criteria. We now note that an industry technical group has reached a consensus on appropriate technical criteria for GSO blanket licensing and has submitted a report detailing that consensus. We have reviewed this report and generally adopt the group's recommendations, as specified in the attached rules. Pursuant to the rules we are adopting in this Report and Order, all applications for the blanket licensing of GSO/FSS earth stations that meet the requirements of § 25.138 will be processed on a routine basis.

19. With respect to NGSO/FSS systems, we note that the technical study of ITU-R Working Party 4-9S on NGSO/FSS interference to fixed stations has been completed, and an equation has been adopted that can be used to specify the space station pfd that provides interference protection to fixed stations. Therefore we adopt this equation for determining the maximum allowed pfd of NGSO/FSS space stations as a function of the number of satellites in the NGSO system constellation, as recommended by technical study groups of the ITU-R for inclusion in the International Radio Regulations. However, while a decision on the space station pfd is required for the proper design of earth stations, we have not been able to develop a consensus on the criteria to be used for the blanket licensing of NGSO/FSS earth stations; therefore, we defer decisions on the conditions for the blanket licensing of earth stations pending further evaluation.

20. Blanket Licensing in Unshared Bands. We adopt a blanket licensing procedure for GSO/FSS earth stations in the unshared 18.58-18.8 GHz, 19.7-20.2 GHz, 28.35-28.6 GHz, and 29.5-30.0 GHz bands. Applicants in these bands may apply for a blanket authorization under which each licensee can construct and operate specified numbers and types of qualified earth stations. At this time, we do not place a limit on the number or the type of earth stations that may be blanket authorized. Applicants, however, must specify such a number and the type of earth station at the time of filing. The license term for a blanket authorization will coincide with the underlying space station operating license.

21. In the 18 GHz NPRM, we proposed that blanket license applicants would be required to designate a point of contact where records on location and frequency use of satellite earth stations will be maintained, in order to ensure that secondary users in these bands have the information necessary to avoid causing harmful interference to GSO/FSS earth stations. As a result of our decision to prohibit secondary use throughout the 18 GHz band, we decline to require satellite operators to designate a point of contact. Moreover, in an environment where there will be no secondary use in the band, requiring satellite operators to monitor the specific location and frequency usage of ubiquitously deployed earth stations could prove expensive and difficult. We also proposed that satellite operators obtaining a blanket license would be subject to an annual reporting requirement. Under this proposal, licensees would be required to include the number of earth stations actually brought into service in a yearly report to the Commission, so that we can monitor the development of this service. This policy is consistent with the requirements initially placed on Very Small Aperture Terminal (“VSAT”) blanket licensed earth station licensees in the 12/14 GHz frequency bands (Ku-band).

22. In the 18 GHz NPRM, we proposed to implement a blanket licensing regime for NGSO/FSS systems in the 18.8-19.3 and the 28.6-29.1 GHz band. However, we stated that we lacked sufficient information to propose specific blanket licensing criteria for NGSO systems, and requested comment on what type of technical criteria should be used. Commenters generally supported this proposal. Therefore, we will adopt our proposal made in the 18 GHz NPRM and will authorize earth station blanket licensing for NGSO/FSS systems in the bands in which NGSO/FSS has primary status, specifically the 18.8-19.3 GHz and 28.6-29.1 GHz frequency bands. The pfd limits for this band are specified in the rules. We recognize that we are not adopting specific blanket licensing rules at this time, and instead will address specific blanket licensing requirements in these bands in a future proceeding.

23. In recognition of the fact that the international allocation is not effective for approximately seven years, we adopt the following allocation and designation decisions, to take effect April 1, 2007: in the downlink band, we allocate 400 MHz of spectrum at 17.3-17.7 GHz for primary BSS use. In the uplink band, we allocate 300 MHz of spectrum at 24.75-25.05 GHz for primary FSS Earth-to-space use, limited to feeder links for the BSS allocation in the 17.3-17.7 GHz band. We allocate 200 MHz of spectrum at 25.05-25.25 GHz for co-primary sharing between FSS and the 24 GHz Service, requiring coordination between these services. Given our experience in the other bands shared between satellite and terrestrial services, we believe that the requirement for coordination in the uplink band will accomplish, with minimal regulation, our objective of providing maximum flexibility of use while ensuring a workable sharing environment. While we note that there is a difference of 100 megahertz of spectrum between the BSS downlinks and the feeder links, we are reluctant to reduce the amount of spectrum available for the feeder links at this time. The flexibility that this additional spectrum provides might prove quite useful to BSS system operators as they tackle the issues of local-into-local and regional programming, as well as any occasional difficulties that might be encountered during coordination.

24. In making these allocation and designation decisions, we strive to attain a balance that best serves the public interest. Our objective is to provide for new satellite services without compromising on our intentions to provide adequate, albeit reduced, continuing spectrum for the FS. We note that BSS is a rapidly growing service, and that additional spectrum will be needed for BSS within the next decade. We also recognize: (1) The importance of preserving terrestrial fixed service spectrum to continue supporting important existing terrestrial fixed service operations in the 17.7-17.8 GHz band; (2) the need to provide spectrum for the migration of terrestrial fixed services into that band; and (3) the need to provide for the growth of the 24 GHz Service.

25. In order to provide for maximum availability of all these services to the public, we conclude that a band segmentation approach will ensure that the BSS will be able to provide downlink service to the general public in an exclusive allocation, and the fixed service will similarly be able to maintain existing services in the 17.7-17.8 GHz band. We recognize that the ubiquitous nature of BSS services (which are defined as links from the satellite to the general public) preclude successful coordination with a terrestrial service that is similarly widespread. We also note that the U.S. government plans to eventually remove its radiolocation systems that currently operate in the 17.3-17.7 GHz band. In the event that all of these stations are not relocated prior to the implementation of the BSS service, the Commission will work with the NTIA to ensure an orderly transition. See letter from “Hatch to Hatfield In this Report and Order, we also adopt a co-primary allocation to the GSO/FSS at 25.05-25.25 GHz, limited to BSS feeder links, in order to give full accommodation of spectrum needs to all services. We note that the successful implementation of this allocation will require the development of sharing criteria that will be considered in a future rulemaking proceeding.

26. While we do not believe that implementing the allocation immediately would be prudent, we agree to make the decision now to make an allocation that will be effective April 2007, so as to provide all parties with sufficient notice and time to design their systems to use this spectrum in the most efficient manner. Therefore, within this context, we decide now to make the downlink BSS and GSO/FSS allocations effective April 1, 2007. We are, however, stopping the allocation for the BSS at 17.7 GHz. This will provide 400 MHz of spectrum to the BSS at 17.3-17.7 GHz. Considering the amount of spectrum being lost by the fixed service as a result of this proceeding, we believe it is important to keep as much spectrum available to the terrestrial fixed service as possible, for as long as possible, to help in the relocation of displaced facilities. We proceed with the terrestrial fixed service relocation efforts at 18 GHz and begin the process of developing service rules for the 17 GHz BSS. If we determine that terrestrial fixed relocation spectrum requirements are not as demanding as predicted, we may re-examine the availability of all or a part of the 17.7-17.8 GHz band for BSS applications. Given the record of this proceeding, however, we must at this time ensure that this spectrum is available for terrestrial fixed service operations.

Final Regulatory Flexibility Analysis

As required by the Regulatory Flexibility Act (RFA), an Initial Regulatory Flexibility Analysis (IRFA) of the possible significant economic impact on small entities was incorporated in the 18 GHz NPRM. The Commission sought written public comments on the proposals in the NPRM including comment on the IRFA. This present Final Regulatory Flexibility Analysis (FRFA) conforms to the RFA.

A. Need for, and Objectives of, the Rules

In this Report and Order, the Commission provides a band plan that should go a long way in facilitating the deployment of new services by designating different dedicated sub-bands for ubiquitously deployed FSS earth stations and near-ubiquitous terrestrial fixed services in the 18 GHz band. Additionally, through the judicious choice of band segments subject to co-primary sharing, this plan will significantly lower any consequential administrative costs of coordination.

B. Summary of Significant Issues Raised by Public Comments in Response to the IRFA

No comments were submitted in direct response to the IRFA. However VisionStar made a specific proposal for the treatment of FSS licensees that are small businesses and several commenters provided licensee data for sub-bands of the spectrum concerned, incorporated for the specific services involved. We were unable to act on VisionStar's proposal for the provision of an “Early Service” for FSS licensees that are small businesses. This is because we do not collect annual revenue information from space station or earth station licensees, which would be necessary to determine if they are small businesses (see paragraph C ), and because of the potential interference impact of such “temporary secondary” operations on other FSS licensees.

C. Description and Estimate of the Number of Small Entities to Which the Rules Will Apply

The RFA directs agencies to provide a description of and, where feasible, an estimate of the number of small entities that may be affected by the adopted rules. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA). A small organization is generally “any not-for-profit enterprise which is independently owned and operated and is not dominant in its field.” Nationwide, as of 1992, there were approximately 275,801 small organizations. “Small governmental jurisdiction” generally means “governments of cities, counties, towns, townships, villages, school districts, or special districts, with a population of less than 50,000.” As of 1992, there were approximately 85,006 such jurisdictions in the United States. This number includes 38,978 counties, cities, and towns; of these, 37,566, or 96 percent, have populations of fewer than 50,000. The Census Bureau estimates that this ratio is approximately accurate for all governmental entities. Thus, of the 85,006 governmental entities, we estimate that 81,600 (91 percent) are small entities. Below, we further describe and estimate the number of small entity licensees that may be affected by the adopted rules.

1. Cable Services. The SBA has developed a definition of small entities for cable and other pay television services, which includes all such companies generating $11 million or less in revenue annually. This definition includes cable systems operators, closed circuit television services, direct broadcast satellite services, multipoint distribution systems, satellite master antenna systems, and subscription television services. According to the Census Bureau, there were 1,788 total cable and other pay television service operators and 1,423 had less than $11 million in revenue. The Commission has developed its own definition of a small cable system operator for the purposes of rate regulation. Under the Commission's Rules, a “small cable company,” is one serving fewer than 400,000 subscribers nationwide. Based on our most recent information, we estimate that there were 1,439 cable operators that qualified as small cable system operators at the end of 1995. Since then, some of those companies may have grown to serve over 400,000 subscribers, and others may have been involved in transactions that caused them to be combined with other cable operators. Consequently, we estimate that there are fewer than 1,439 small entity cable system operators.

The Communications Act also contains a definition of a small cable system operator, which is “a cable operator that, directly or through an affiliate, serves in the aggregate fewer than 1 percent of all subscribers in the United States and is not affiliated with any entity or entities whose gross annual revenues in the aggregate exceed $250,000,000.” The Commission has determined that there are 61,700,000 subscribers in the United States. Therefore, we found that an operator serving fewer than 617,000 subscribers shall be deemed a small operator, if its annual revenues, when combined with the total annual revenues of all of its affiliates, do not exceed $250 million in the aggregate. Based on available data, we find that the number of cable operators serving 617,000 subscribers or less totals 1,450. We do not request nor do we collect information concerning whether cable system operators are affiliated with entities whose gross annual revenues exceed $250,000,000, and thus are unable at this time to estimate with greater precision the number of cable system operators that would qualify as small cable operators under the definition in the Communications Act.

International Services

The Commission has not developed a definition of small entities applicable to licensees in the international services. Therefore, the applicable definition of small entity is generally the definition under the SBA rules applicable to Communications Services, Not Elsewhere Classified (NEC). This definition provides that a small entity is one with $11.0 million or less in annual receipts. According to the Census Bureau, there were a total of 848 communications services providers, NEC, in operation in 1992, and a total of 775 had annual receipts of less than $9.999 million. The Census Report does not provide more precise data.

2. Fixed Satellite Transmit/Receive Earth Stations. Currently there are no operational fixed satellite transmit/receive earth stations authorized for use in the 17.7-20.2 GHz and 27.5-30 GHz band. However, with 12 GSO/FSS licensees, 1 NGSO/FSS licensee, and our decision to adopt blanket licensing, we expect applications for FSS earth station licenses to be filed in the near future. We do not request or collect annual revenue information, and thus are unable to estimate the number of earth stations that would constitute small businesses under the SBA definition.

3. Mobile Satellite Earth Station Feeder Links. We have granted one license for MSS earth station feeder links. We do not request or collect annual revenue information, and thus are unable to estimate the number of mobile satellite earth stations that would constitute small businesses under the SBA definition.

4. Space Stations (Geostationary). Commission records reveal that there are 12 space station licensees. We do not request nor collect annual revenue information, and thus are unable to estimate the number of geostationary space stations that would constitute small businesses under the SBA definition, or apply any rules providing special consideration for Space Station (Geostationary) licensees that are small businesses.

5. Space Stations (Non-Geostationary). There is one Non-Geostationary Space Station licensee, and that licensee is operational. We do not request nor collect annual revenue information, and thus are unable to estimate the number of non-geostationary space stations that would constitute small businesses under the SBA definition.

6. Direct Broadcast Satellites. Because DBS provides subscription services, DBS falls within the SBA definition of Cable and Other Pay Television Services (SIC 4841). This definition provides that a small entity is expressed as one with $11.0 million or less in annual receipts. As of December 1996, there were eight DBS licensees. However, the Commission does not collect annual revenue data for DBS and, therefore, is unable to ascertain the number of small DBS licensees that could be impacted by these proposed rules. Although DBS service requires a great investment of capital for operation, we acknowledge that there are several new entrants in this field that may not yet have generated more than $11 million in annual receipts, and therefore may be categorized as small businesses, if independently owned and operated.

7. Auxiliary, Special Broadcast and other program distribution services. This service involves a variety of transmitters, generally used to relay broadcast programming to the public (through translator and booster stations) or within the program distribution chain (from a remote news gathering unit back to the station). At the frequencies under consideration in this proceeding, there are no transmissions of this type directly to the public. The Commission has not developed a definition of small entities applicable to broadcast auxiliary licensees. Therefore, the applicable definition of small entity is the definition under the Small Business Administration (SBA) rules applicable to radio broadcasting stations (SIC 4832) and television broadcasting stations (SIC 4833). These definitions provide, respectively, that a small entity is one with either $5.0 million or less in annual receipts or $10.5 million in annual receipts. 13 CFR 121.201, SIC CODES 4832 and 4833. The numbers of these stations are very small. The FCC does not collect financial information on any broadcast facility and the Department of Commerce does not collect financial information on these auxiliary broadcast facilities. We believe, however, that most, if not all, of these auxiliary facilities could be classified as small businesses by themselves. We also recognize that most of these types of services are owned by parent stations which, in some cases, would be covered by the revenue definition of a small business entity discussed above. These stations would likely have annual revenues that exceed the SBA maximum to be designated as small businesses (as noted, either $5 million for a radio station or $10.5 million for a TV station). Furthermore, they do not individually meet the Small Business Act's definition of a “small business concern” because they are not independently owned and operated.

8. Microwave Services. Microwave services includes common carrier, private operational fixed, and broadcast auxiliary radio services. At present, there are 22,015 common carrier licensees, approximately 61,670 private operational fixed licensees and broadcast auxiliary radio licensees in the microwave services. Inasmuch as the Commission has not yet defined a small business with respect to microwave services, we will utilize the SBA's definition applicable to radiotelephone companies—i.e., an entity with no more than 1,500 persons. 13 CFR 121.201, SIC CODE 4812. We estimate, for this purpose, that all of the Fixed Microwave licensees (excluding broadcast auxiliary licensees) would qualify as small entities under the SBA definition for radiotelephone companies.

D. Description of Projected Reporting, Recordkeeping, and Other Compliance Requirements

The Commission's existing rules in part 25 on FSS operations contain reporting requirements for FSS systems, and we modify these reporting requirements to eliminate duplicative costs of filing multiple applications. In addition, we add an annual reporting requirement to indicate the number of satellite earth stations actually brought into service. The proposed blanket licensing procedures do not affect small entities disproportionately, and it is likely that no additional outside professional skills are required to complete the annual report indicating the number of small antenna earth stations actually brought into service.

E. Steps Taken To Minimize Significant Economic Impact on Small Entities, and Significant Alternatives Considered

The 18 GHz NPRM solicited comment on several alternatives for spectrum sharing, blanket licensing, and band segmentation. This Report and Order considered comments offering alternatives, and has acted in response to stated concerns and suggestions, particularly those representing significant agreement or consensus by commenters. The decisions of this Report and Order should positively impact both large and small businesses by providing a faster, more efficient, and less economically burdensome coordination and licensing procedure, as well as providing an alternative band plan that better meets these concerns. The blanket licensing service rules provide for consolidation of licensing for small antenna earth stations, and a new balanced requirement designed to ensure that new satellite services will not cause interference to existing terrestrial services. These rules substitute a single requirement to annually report the number of satellite earth stations brought into service in the last year, compared to the current requirement for individual licensing of such stations. This change, discussed further above, should minimize the impact on Small entities.

F. Report to Congress

The Commission will send a copy of this Report and Order including this FRFA, in a report to be sent to Congress pursuant to the Small Business Regulatory Enforcement Fairness Act of 1966, see 5 U.S.C. 801 (a)(1)(A). In addition, the Commission will send a copy of the Report and Order, including this FRFA, to the Chief Counsel for Advocacy of the Small Business Administration. A copy of this Report and Order and FRFA (or summaries thereof) will also be published in the Federal Register. See 5 U.S.C. 604(b).

Ordering Clauses

Pursuant to Sections 1, 4(i), 4(j), 301, 302, 303(c), 303(e), 303(f), 303(r) and 403 of the Communications Act of 1934, as amended, 47 U.S.C. Sections 151, 154 (i), 154(j), 301, 302, 303(c), 303(e), 303(f), 303 (r), and 403, this Report and Order IS ADOPTED and that parts 2, 21, 25, 74, 78, and 101 of the Commission's Rules ARE AMENDED, as specified in the rules, Effective October 10, 2000.

The Regulatory Flexibility Analysis, as required by Section 604 of the Regulatory Flexibility Act and as set forth is adopted.

The Commission's Consumer Information Bureau shall send a copy of this Report and Order, including the Final Regulatory Flexibility Analysis to the Chief Counsel for Advocacy of the Small Business Administration.

This proceeding is terminated pursuant to Sections 4i and 4j of the Communications Act of 1934, as amended, 47 U.S.C. Sections 154(i), and 154 (j).

List of Subjects

47 CFR Part 2

Radio, Telecommunications.

47 CFR Part 21

Communications common carriers, Communications equipment, Radio.

47 CFR Part 25

Communications common carriers, communications equipment, Radio, Satellites, Telecommunications.

47 CFR Part 74

Communications equipment, Radio, Television.

47 CFR Part 78

Cable television, Communications equipment, Radio.

47 CFR Part 101

Communications equipment, Radio.

Federal Communications Commission.
William F. Caton,
Deputy Secretary.

Rule Changes

For the reasons set forth in the preamble, parts 2, 21, 25, 74, 78, and 101 of title 47 of the Code of Federal Regulations are amended as follows:

PART 2—FREQUENCY ALLOCATIONS AND RADIO TREATY MATTERS; GENERAL RULES AND REGULATIONS

1. The authority citation for part 2 continues to read as follows:

Authority: 47 U.S.C. 154, 302a, 303, and 336 unless otherwise noted.

2. Amend § 2.106 as follows:

a. Revise pages 67, 68, 69, 70, 71, and 72 of the Table.

b. In the list of United States footnotes, revise footnotes US255 and US334.

c. In the list of non-Federal government footnotes, revise footnote NG144 and add footnotes NG163, NG164, NG165, NG166, and NG167.

The additions and revisions read as follows:

§ 2.106 Table of Frequency Allocations.

* * * * *

United States (US) Footnotes

* * * * *

US255 In addition to any other applicable limits, the power flux-density across the 200 MHz band 18.6-18.8 GHz produced at the surface of the Earth by emissions from a space station under assumed free-space propagation conditions shall not exceed −95 dB(W/m ²) for all angles of arrival. This limit may be exceeded by up to 3 dB for no more than 5% of the time.

* * * * *

US334 In the band 17.8-20.2 GHz, Government space stations in both geostationary (GSO) and non-geostationary satellite orbits (NGSO) and associated earth stations in the fixed-satellite service (space-to-Earth) may be authorized on a primary basis. For a Government geostationary satellite network to operate on a primary basis, the space station shall be located outside the arc, measured from east to west, 70 West Longitude to 120 West Longitude. Coordination between Government fixed-satellite systems and non-Government space and terrestrial systems operating in accordance with the United States Table of Frequency Allocations is required.

(a) In the sub-band 17.8-19.7 GHz, the power flux-density at the surface of the Earth produced by emissions from a Government GSO space station or from a Government space station in a NGSO constellation of 50 or fewer satellites, for all conditions and for all methods of modulation, shall not exceed the following values in any 1 MHz band:

(1) −115 dB(W/m ²) for angles of arrival above the horizontal plane (δ) between 0° and 5°,

(2) −115 + 0.5 (δ−5) dB(W/m ²) for δ between 5° and 25°, and

(3) −105 dB(W/m ²) for δ between 25° and 90°.

(b) In the sub-band 17.8-19.3 GHz, the power flux-density at the surface of the Earth produced by emissions from a Government space station in an NGSO constellation of 51 or more satellites, for all conditions and for all methods of modulation, shall not exceed the following values in any 1 MHz band:

(1) −115 −X dB(W/m ²) for δ between 0° and 5°,

(2) −115 −X + ((10 + X)/20) (δ−5) dB(W/m ²) for δ between 5° and 25°, and

(3) −105 dB(W/m ²) for δ between 25° and 90°; where X is defined as a function of the number of satellites, n, in an NGSO constellation as follows:

For n ≤ 288, X = (5/119) (n−50) dB; and

For n > 288, X = (1/69) (n+ 402) dB.

* * * * *

Non-Federal Government (NG) Footnotes

* * * * *

NG144 Stations authorized as of September 9, 1983 to use frequencies in the bands 17.7-18.58 GHz and 19.3-19.7 GHz may, upon proper application, continue operations. Fixed stations authorized in the band 18.58-19.3 GHz that remain co-primary under the provisions of §§ 21.901(e), 74.502(c), 74.602(g), 78.18(a)(4), and 101.174(r) of this chapter may continue operations consistent with the provisions of those sections.

* * * * *

NG163 The allocation to the broadcasting-satellite service in the band 17.3-17.7 GHz shall come into effect on 1 April 2007.

NG164 The use of the band 18.3-18.8 GHz by the fixed-satellite service (space-to-Earth) is limited to systems in the geostationary-satellite orbit.

NG165 The use of the band 18.8-19.3 GHz by the fixed-satellite service (space-to-Earth) is limited to systems in non-geostationary-satellite orbits.

NG166 The use of the band 19.3-19.7 GHz by the fixed-satellite service (space-to-Earth) is limited to feeder links for the mobile-satellite service.

NG167 The use of the fixed-satellite service (Earth-to-space) in the band 24.75-25.25 GHz is limited to feeder links for the broadcasting-satellite service operating in the band 17.3-17.7 GHz. The allocation to the fixed-satellite service (Earth-to-space) in the band 24.75-25.25 shall come into effect on 1 April 2007.

* * * * *

PART 21—DOMESTIC PUBLIC FIXED RADIO SERVICES

3. The authority citation for part 21 continues to read as follows:

Authority: Secs. 1, 2, 4, 201-205, 208, 215, 218, 303, 307, 313, 403, 404, 410, 602, 48 Stat. as amended, 1064, 1066, 1070-1073, 1076, 1077, 1080,1082, 1083, 1087, 1094, 1098, 1102; 47 U.S.C. 151, 154, 201-205, 208, 215, 218, 303, 307, 313, 314, 403, 404, 602; 47 U.S.C. 552, 554.

4. Section 21.901 is amended by revising paragraph (e) to read as follows:

§ 21.901 Frequencies.

* * * * *

(e) Frequencies in the band segments 18,580-18,820 MHz and 18,920-19,160 MHz that were licensed or had applications pending before the Commission as of September 18, 1998 may continue those operations for point-to-point return links from a subscriber's location on a shared co-primary basis with other services under parts 25, 74, 78 and 101 of this chapter until June 8, 2010. Prior to June 8, 2010, such stations are subject to relocation by licensees in the fixed-satellite service. Such relocation is subject to the provisions of §§ 101.85 through 101.97 of this chapter. After June 8, 2010, such operations are not entitled to protection from fixed-satellite service operations and must not cause unacceptable interference to fixed-satellite service station operations. No new licenses will be granted in these bands after June 8, 2000.

* * * * *

PART 25—SATELLITE COMMUNICATIONS

5. The authority citation for part 25 continues to read as follows:

Authority: 47 U.S.C. 701-744. Interprets or applies sec. 303, 47 U.S.C. 303. 47 U.S.C. sections 154, 301, 302, 303, 307, 309 and 332, unless otherwise noted.

6. Section 25.115 is amended by adding paragraph (e) to read as follows:

§ 25.115 Application for earth station authorizations.

* * * * *

(e) Earth stations operating in the 20/30 GHz Fixed-Satellite Service with U.S.-licensed or non-U.S. licensed satellites: Applications to license individual earth stations operating in the 20/30 GHz band shall be filed on FCC Form 312, Main Form and Schedule B, and shall also include the information described in § 25.138. Earth stations belonging to a network operating in the 18.58-18.8 GHz, 19.7-20.2 GHz, 28.35-28.6 GHz or 29.5-30.0 GHz bands may be licensed on a blanket basis. Applications for such blanket authorization may be filed using FCC Form 312, Main Form and Schedule B, and specifying the number of terminals to be covered by the blanket license. Each application for a blanket license under this section shall include the information described in § 25.138.

7. Section 25.138 is added under the undesignated centerheading “Earth Stations” to read as follows:

§ 25.138 Blanket licensing provisions of GSO FSS Earth Stations in the 18.58-18.8 GHz (space-to-Earth), 19.7-20.2 GHz (space-to-Earth), 28.35-28.6 GHz (Earth-to-space) and 29.5-30.0 GHz (Earth-to-space) bands.

(a) All applications for a blanket earth station license in the GSO FSS in the 18.58-18.8 GHz, 19.7-20.2 GHz, 28.35-28.6 GHz and 29.5-30.0 GHz bands that meet the following requirements shall be routinely processed:

(1) GSO FSS earth station antenna off-axis EIRP spectral density for co-polarized signals shall not exceed the following values, within ±3° of the GSO arc, under clear sky conditions:

18.5-25log(θ)-10log(N) | dBW/40kHz | for 2.0° ≤ θ ≤ 7°
−2.63-10log(N) | dBW/40kHz | for 7° ≤ θ ≤ 9.23°
21.5-25log(θ)-10log(N) | dBW/40kHz | for 9.23° ≤ θ ≤ 48°
−10.5-10log(N) | dBW/40kHz | for 48° < θ ≤ 180°

Where:

θ is the angle in degrees from the axis of the main lobe; for systems where more than one earth station is expected to transmit simultaneously in the same bandwidth, e.g., CDMA systems,

N is the likely maximum number of simultaneously transmitting co-frequency earth stations in the receive beam of the satellite; N=1 for TDMA and FDMA systems.

(2) GSO FSS earth station antenna off-axis EIRP spectral density for co-polarized signals shall not exceed the following values, for all directions other than within ±3° of the GSO arc, under clear sky conditions:

21.5-25log(θ)-10log(N) | dBW/40kHz | for 3.5° ≤ θ ≤ 7°
0.37-10log(N) | dBW/40kHz | for 7° < θ ≤ 9.23°
24.5-25log(θ)-10log(N) | dBW/40kHz | for 9.23° < θ ≤ 48°
−7.5-10log(N) | dBW/40kHz | for 48° < θ ≤ 180°

Where:

θ: is the angle in degrees from the axis of the main lobe; for systems where more than one earth station is expected to transmit simultaneously in the same bandwidth, e.g., CDMA systems.

N: is the likely maximum number of simultaneously transmitting co-frequency earth stations in the receive beam of the satellite; N=1 for TDMA and FDMA systems.

(3) The values given in paragraphs (a) (1) and (2) of this section may be exceeded by 3 dB, for values of θ >10°, provided that the total angular range over which this occurs does not exceed 20° when measured along both sides of the GSO arc.

(4) GSO FSS earth station antenna off-axis EIRP spectral density for cross-polarized signals shall not exceed the following values, in all directions relative to the GSO arc, under clear sky conditions:

8.5-25log(θ)-10log(N) | dBW/40kHz | for 2.0° ≤ θ ≤ 7°
12.63-10log(N) | dBW/40kHz | for 7° < θ ≤ 9.23°

Where:

θ: is the angle in degrees from the axis of the main lobe; for systems where more than one earth station is expected to transmit simultaneously in the same bandwidth, e.g., CDMA systems.

N: is the likely maximum number of simultaneously transmitting co-frequency earth stations in the receive beam of the satellite; N=1 for TDMA and FDMA systems.

(5) For earth stations employing uplink power control, the values in paragraphs (a) (1), (2), and (4) of this section may be exceeded by up to 20 dB under conditions of uplink fading due to precipitation. The amount of such increase in excess of the actual amount of monitored excess attenuation over clear sky propagation conditions shall not exceed 1.5 dB or 15 % of the actual amount of monitored excess attenuation in dB, whichever is larger, with a confidence level of 90 percent except over transient periods accounting for no more than 0.5% of the time during which the excess is no more than 4.0 dB.

(6) Power flux-density (PFD) at the Earth's surface produced by emissions from a space station for all conditions, including clear sky, and for all methods of modulation shall not exceed a level of −118 dBW/m ²/MHz for the band 19.7-20.2 GHz.

(b) Each applicant for earth station license(s) that proposes levels in excess of those defined in paragraph (a) of this section shall submit link budget analyses of the operations proposed along with a detailed written explanation of how each uplink and each transmitted satellite carrier density figure is derived. Applicants shall also submit a narrative summary which must indicate whether there are margin shortfalls in any of the current baseline services as a result of the addition of the applicant's higher power service, and if so, how the applicant intends to resolve those margin short falls. Applicants shall certify that all potentially affected parties (i.e., those GSO FSS satellite networks that are 2, 4, and 6 degrees apart) acknowledge and do not object to the use of the applicant's higher power densities.

(c) Licensees authorized pursuant to paragraph (b) of this section shall bear the burden of coordinating with any future applicants or licensees whose proposed compliant operations at 6 degrees or smaller orbital spacing, as defined by paragraph (a) of this section, is potentially or actually adversely affected by the operation of the non-compliant licensee. If no good faith agreement can be reached, however, the non-compliant licensee shall reduce its earth station and space station power density levels to be compliant with those specified in paragraph (a) of this section.

(d) The applicant shall provide for each earth station antenna type, a series of radiation patterns measured on a production antenna performed on a calibrated antenna range and, as a minimum, shall be made at the bottom, middle, and top frequencies of the 30 GHz band. The radiation patterns are:

(1) Co-polarized patterns for each of two orthogonal senses of polarizations in two orthogonal planes of the antenna.

(i) In the azimuth plane, plus and minus 10 degrees and plus and minus 180 degrees.

(ii) In the elevation plane, zero to 30 degrees.

(2) Cross-polarization patterns in the E- and H-planes, plus and minus 10 degrees.

(3) Main beam gain.

(e) Protection of receive earth stations from adjacent satellite interference is based on either the antenna performance specified in § 25.209 (a) and (b), or the actual receiving earth station antenna performance, if actual performance provides greater isolation from adjacent satellite interference. For purposes of insuring the correct level of protection, the applicant shall provide, for each earth station antenna type, the antenna performance plots for the 20 GHz band, including the format specified in paragraph (d) of this section.

(f) The earth station licensee shall not transmit towards a GSO FSS satellite unless it has prior authorization from the satellite operator or a space segment vendor authorized by the satellite operator. The specific transmission shall be conducted in accordance with the operating protocol specified by the satellite operator.

(g) A licensee applying to renew its license must include on FCC Form 405 the number of constructed earth stations.

8. Section 25.145 is amended by redesignating paragraphs (g) introductory text, (g)(1), (g)(2), and (g)(3) as paragraphs (g)(1) introductory text, (g)(1)(i), (g)(1)(ii), and (g)(1)(iii), respectively, and by adding paragraphs (g)(2), (h), and (i) to read as follows:

§ 25.145 Licensing conditions for the Fixed-Satellite Service in the 20/30 GHz bands.

* * * * *

(g) * * * (1) * * *

(2) Licensees shall submit to the Commission a yearly report indicating the number of earth stations actually brought into service under its blanket licensing authority. The annual report is due to the Commission no later than the first day of April of each year and shall indicate the deployment figures for the preceding calendar year.

(h) Policy governing the relocation of terrestrial services from the 18.58 to 19.3 GHz band. Frequencies in the 18.58-19.3 GHz band listed in parts 21, 74, 78, and 101 of this chapter have been reallocated for primary use by the Fixed-Satellite Service, subject to various provisions for the existing terrestrial licenses. In accordance with procedures specified in §§ 101.85 through 101.97 of this chapter, Fixed-Satellite Service licensees are required to relocate the existing co-primary terrestrial licensees in these bands if interference to those operations would occur during the period that the terrestrial stations remain co-primary and the terrestrial antenna is pointing within 2 degrees of the GSO satellite. Additionally, Fixed-Satellite Service operations are not entitled to protection from the co-primary operations until after that period has expired. (see §§ 21.901(e), 74.502(c), 74.602(g), 78.18(a)(4), and 101.147(r) of this chapter.

(i) Protection of fixed services receivers in the 18.3-19.3 GHz band. For purposes of this section, FSS space stations operating in accordance with the power flux-density limits of § 25.208 are considered not to cause unacceptable interference to fixed service receivers that are pointed more than 2 degrees from the FSS space station.

(1) 18.3-18.58 GHz. FSS space stations transmitting in the 18.3-18.58 GHz band may not cause unacceptable interference to fixed service receive stations that were licensed or for which an application was pending prior to June 8, 2000.

(2) 18.58-18.8 GHz. FSS space stations transmitting in the 18.58-18.8 GHz band may not cause unacceptable interference to fixed service receive stations that were licensed or for which an application was pending prior to September 18, 1998. After June 8, 2010, such fixed station receivers are no longer afforded protection from FSS space stations operating in accordance with § 25.208 and the fixed station transmitters shall not cause harmful interference to the GSO FSS receiving earth stations.

(3) 18.8-19.3 GHz. FSS space stations transmitting in the 18.8-19.3 GHz band may not cause unacceptable interference to fixed service receive stations that were licensed or for which an application was pending prior to June 8, 2000. After June 8, 2010, such fixed station receivers (except those operating in 19.26-19.3 GHz) are no longer afforded protection from FSS space stations operating in accordance with § 25.208.

9. Section 25.202(a)(1) is revised to read as follows:

§ 25.202 Frequencies, frequency tolerance and emission limitations.

(a)(1) Frequency bands. The following frequencies are available for use by the fixed-satellite service. Precise frequencies and bandwidths of emission shall be assigned on a case-by-case basis.

Space-to-earth | Earth-to-space
3.7-4.2 ¹ | ¹ 5.925-6.425
10.95-11.2 ¹ | ⁴ 13.75-14.0
11.45-11.7 ² | ⁵ 14.0-14.2
11.7-12.2 ³ | 14.2-14.5
18.3-18.58 1 10 | ⁹ 17.3-17.8
18.58-18.8 6 10 11
18.8-19.3 7 10
19.3-19.7 8 10 | ¹ 27.5-29.5
19.7-20.2 ¹⁰ | 29.5-30.0
¹ This band is shared coequally with terrestrial radiocommunication services.
² Use of this band by the fixed-satellite service is limited to international systems, i.e., other than domestic systems.
³ Use of this band by the fixed-satellite service in Region 2 is limited to national and subregional systems. Fixed-satellite transponders may be used additionally for transmissions in the broadcasting-satellite service.
⁴ This band is shared on an equal basis with the Government radiolocation service, grandfathered space stations in the Tracking and Data Relay Satellite System, and until January 1, 2000, spaceborne sensors.
⁵ In this band, stations in the radionavigation service shall operate on a secondary basis to the fixed-satellite service.
⁶ The band 18.58-18.8 GHz is shared co-equally with existing terrestrial radiocommunications systems until June 8, 2010.
⁷ The band 18.8-19.3 GHz is shared co-equally with terrestrial radiocommunications services, until June 8, 2010. After this date, the sub-band 19.26-19.3 GHz is shared co-equally with existing terrestrial radiocommunications systems.
⁸ The use of the band 19.3-19.7 GHz by the Fixed-Satellite Service (space-to-Earth) is limited to feeder links for the Mobile-Satellite Service.
⁹ The use of the band 17.3-17.8 GHz by the Fixed-Satellite Service (Earth-to-space) is limited to feeder links for broadcasting-satellite service, and the sub-band 17.7-17.8 GHz is shared co-equally with terrestrial fixed services.
¹⁰ This band is shared co-equally with the Federal Government Fixed-Satellite Service.
¹¹ The band 18.6-18.8 GHz is shared co-equally with the non-Federal Government and Federal Government Earth Exploration-Satellite (passive) and Space Research (passive) Services.

* * * * *

10. Section 25.208 is amended by revising paragraph (c) and adding paragraphs (d), (e) and (f) to read as follows:

§ 25.208 Power flux-density limits.

* * * * *

(c) In the 19.3-19.7 GHz, 22.55-23.00 GHz, 23.00-23.55 GHz, and 24.45-24.75 GHz frequency bands, the power flux-density at the Earth's surface produced by emissions from a space station for all conditions and for all methods of modulation shall not exceed the following values:

(1) −115 dB (W/m²) in any 1 MHz band for angles of arrival between 0 and 5 degrees above the horizontal plane.

(2) −115+0.5 (d−5) dB (W/m²) in any 1 MHz band for angles of arrival d (in degrees) between 5 and 25 degrees above the horizontal plane.

(3) −105 dB (W/m²) in any 1 MHz band for angles of arrival between 25 and 90 degrees above the horizontal plane.

(d) In the 18.3-18.8 GHz frequency bands, the power flux-density at the Earth's surface produced by emissions from a space station for all conditions and for all methods of modulation shall not exceed the following values:

(1) −118 dB (W/m²) in any 1 MHz band for angles of arrival between 0 and 5 degrees above the horizontal plane.

(2) −118+0.65 (d−5) dB (W/m²) in any 1 MHz band for angles of arrival d (in degrees) between 5 and 25 degrees above the horizontal plane.

(3) −105 dB (W/m²) in any 1 MHz band for angles of arrival between 25 and 90 degrees above the horizontal plane.

(e) In addition to the limits specified in paragraph (d) of this section, the power flux-density across the 200 MHz band 18.6-18.8 GHz produced at the Earth's surface by emissions from a space station under assumed free-space propagation conditions shall not exceed −95 dB(W/m²) for all angles of arrival. This limit may be exceeded by up to 3 dB for no more than 5% of the time.

(f) In the 18.8-19.3 GHz frequency band, the power flux-density at the Earth's surface produced by emissions from a space station for all conditions and for all methods of modulation shall not exceed the following values:

−115 − X dB(W/m²÷MHz) | for 0° ≤ δ < 5°
−115−X+((10+X)/20)(δ−5)dB(W/m²÷MHz) | for 5° ≤ δ < 25°
−105 dB(W/m²÷MHz) | for 25° ≤ δ < 90°

Where:

δ: is the angle of arrival above the horizontal plane; and

X is defined as a function of the number of satellites in the non-GSO FSS constellation, n, as follows:

for n ≤ 50 | X = 0 (dB)
for 50 < n ≤ 288 | X = (5/119) (n − 50) (dB)
for n > 288 | X = (1/69) (n + 402) (dB)

11. Section 25.251(a) is revised to read as follows:

§ 25.251 Special requirements for coordination.

(a) The administrative aspects of the coordination process are set forth in §§ 101.103(d) of this chapter in the case of coordination of terrestrial stations with earth stations and in § 25.203 in the case of coordination of earth stations with terrestrial stations.

* * * * *

PART 74—EXPERIMENTAL RADIO, AUXILIARY, SPECIAL BROADCAST AND OTHER PROGRAM DISTRIBUTIONAL SERVICES

12. The authority citation for part 74 continues to read as follows:

Authority: 47 U.S.C. 154, 303, 307, 336(f) and 554.

13. Section 74.502(c) is revised to read as follows:

§ 74.502 Frequency assignment.

* * * * *

(c) Aural broadcast STL and intercity relay stations that were licensed or had applications pending before the Commission as of September 18, 1998 may continue those operations in the band 18,760-18,820 and 19,100-19,160 MHz on a shared co-primary basis with other services under parts 21, 25, and 101 of this chapter until June 8, 2010. Prior to June 8, 2010, such stations are subject to relocation by licensees in the fixed-satellite service. Such relocation is subject to the provisions of §§ 101.85 through 101.97 of this chapter. After June 8, 2010, such operations are not entitled to protection from fixed-satellite service operations and must not cause unacceptable interference to fixed-satellite service station operations. No new licenses will be granted in these bands.

(1)(i) 5 MHz maximum authorized bandwidth channels:

Transmit (receive) (MHz) | Receive (transmit) (MHz)
340 MHz Separation
18762.5 | 19102.5
18767.5 | 19107.5
18772.5 | 19112.5
18777.5 | 19117.5
18782.5 | 19122.5
18787.5 | 19127.5
18792.5 | 19132.5
18797.5 | 19137.5
18802.5 | 19142.5
18807.5 | 19147.5
18812.5 | 19152.5
18817.5 | 19157.5

(ii) Licensees may use either a two-way link or one frequency of a frequency pair for a one-way link and shall coordinate proposed operations pursuant to the procedures required in § 101.103(d) of this chapter.

* * * * *

(2) [Reserved]

* * * * *

14. Section 74.551 is amended by adding paragraph (d) to read as follows:

§ 74.551 Equipment changes.

* * * * *

(d) Permissible changes in equipment operating in the bands 18.76-18.82 GHz and 19.1-19.16 GHz. Notwithstanding other provisions of this section, licensees of stations that remain co-primary under the provisions of § 74.502(c) may not make modifications to their systems that increase interference to satellite earth stations, or result in a facility that would be more costly to relocate.

15. Section 74.602(g) introductory text is revised to read as follows:

§ 74.602 Frequency assignment.

* * * * *

(g) The following frequencies are available for assignment to television STL, television relay stations and television translator relay stations. Stations operating on frequencies in the sub-band 19.26-19.3 GHz that were licensed or had applications pending before the Commission as of September 18, 1998 may continue those operations on a shared co-primary basis with other services under parts 21, 25, 78, and 101 of this chapter. Such stations, however, are subject to relocation by licensees in the fixed-satellite service. Such relocation is subject to the provisions of §§ 101.85 through 101.97 of this chapter. No new licenses will be granted in the 19.26-19.3 GHz band after June 8, 2000. The provisions of § 74.604 do not apply to the use of these frequencies. Licensees may use either a two-way link or one or both frequencies of a frequency pair for a one-way link and shall coordinate proposed operations pursuant to procedures required in § 101.103(d) of this chapter.

* * * * *

16. Section 74.638(b) is revised to read as follows:

§ 74.638 Frequency coordination.

* * * * *

(b) Coordination of assignments in the 6425-6525 MHz and 17.7-19.7 GHz bands will be in accordance with the procedure established in § 101.103(d) of this chapter except that the prior coordination process for mobile (temporary fixed) assignments may be completed orally and the period allowed for response to a coordination notification may be less than 30 days if the parties agree.

17. Section 74.651 is revised by adding paragraph (e) to read as follows:

§ 74.651 Equipment changes.

* * * * *

(e) Permissible changes in equipment operating in the band 19.26-19.3 GHz. Notwithstanding other provisions of this section, licensees of stations that remain co-primary under the provisions of § 74.602(g) may not make modifications to their systems that increase interference to satellite earth stations, or result in a facility that would be more costly to relocate.

PART 78—CABLE TELEVISION RELAY SERVICE

18. The authority citation for part 78 continues to read as follows:

Authority: Secs. 2, 3, 4, 301, 303, 307, 308, 309, 48 Stat., as amended, 1064, 1065, 1066, 1081, 1082, 1083, 1084, 1085; 47 U.S.C. 152, 153, 154, 301, 303, 307, 308, 309.

19. Section 78.18(a)(4) introductory text is revised to read as follows:

§ 78.18 Frequency assignments.

(a) * * *

(4) The Cable Television Relay Service is also assigned the following frequencies in the 17,700-19,700 MHz band. These frequencies are co-equally shared with stations in other services under parts 25, 74, and 101 of this chapter. Cable Television Relay Service stations operating on frequencies in the sub-band 19.26-19.3 GHz that were licensed or had applications pending before the Commission as of September 18, 1998 may continue those operations on a shared co-primary basis with other services under parts 25, 74, and 101 of this chapter. Such stations, however, are subject to relocation by licensees in the fixed-satellite service. Such relocation is subject to the provisions of §§ 101.85 through 101.97 of this chapter. No new part 78 licenses will be granted in the 19.26-19.3 GHz band after June 8, 2000. Licensees may use either a two-way link or one or both frequencies of a frequency pair for a one-way link and shall coordinate proposed operations pursuant to procedures required in § 101.103 (d) of this chapter. These bands may be used for analog or digital modulation.

* * * * *

20. Section 78.36(b) is revised to read as follows:

§ 78.36 Frequency coordination.

* * * * *

(b) 6425-6525 MHz and 17.7-19.7 GHz. Coordination of fixed and mobile assignments will be in accordance with the procedure established in § 101.103(d) of this chapter, except that the prior coordination process for mobile (temporary fixed) assignments may be completed orally and the period allowed for response to a coordination notification may be less than 30 days if the parties agree.

21. Section 78.109 is amended by adding paragraph (d) to read as follows:

§ 78.109 Equipment changes.

* * * * *

(d) Permissible changes in equipment operating in the band 19.26-19.3 GHz. Notwithstanding other provisions of this section, licensees of stations that remain co-primary under the provisions of § 78.18(a)(4) may not make modifications to their systems that increase interference to satellite earth stations, or result in a facility that would be more costly to relocate.

PART 101—FIXED MICROWAVE SERVICES

22. The authority citation for part 101 continues to read as follows:

Authority: 47 U.S.C. 154, 303.

23. An undesignated centerheading and §§ 101.83, 101.85, 101.89, 101.91. 101.95, and 101.97 are added to subpart B to read as follows:

Policies Governing Fixed Service Relocation From the 18.58-19.30 GHz Band

101.83 Modification of station license.

101.85 Transition of the 18.58-19.3 GHz band from the terrestrial fixed services to the fixed-satellite service (FSS).

101.89 Negotiations.

101.91 Involuntary relocation procedures.

101.95 Sunset provisions for licensees in the 18.58-19.26 GHz band.

101.97 Future licensing in the 18.58-19.30 GHz band.

Policies Governing Fixed Service Relocation From the 18.58-19.30 GHz Band

§ 101.83 Modification of station license.

Permissible changes in equipment operating in the band 18.58-19.3 GHz: Notwithstanding other provisions of this section, stations that remain co-primary under the provisions of § 101.147(r) may not make modifications to their systems that increase interference to satellite earth stations, or result in a facility that would be more costly to relocate.

§ 101.85 Transition of the 18.58-19.3 GHz band from the terrestrial fixed services to the fixed-satellite service (FSS).

Fixed services (FS) frequencies in the 18.58-19.3 GHz bands listed in §§ 21.901(e), 74.502(c), 74.602(g), and 78.18(a)(4) of this chapter, and § 101.147(a) and (r) have been allocated for use by the fixed-satellite service (FSS). The rules in this section provide for a transition period during which FSS licensees may relocate existing FS licensees using these frequencies to other microwave bands.

(a) FSS licensees may negotiate with FS licensees authorized to use frequencies in the 18.58-19.30 GHz band for the purpose of agreeing to terms under which the FS licensees would:

(1) Relocate their operations to other fixed microwave bands or other media; or alternatively

(2) Accept a sharing arrangement with the FSS licensee that may result in an otherwise impermissible level of interference to the FSS operations.

(b) FS operations in the 18.58-19.30 GHz band that remain co-primary under the provisions of §§ 21.901(e), 74.502(c), 74.602(d), and 78.18(a)(4) of this chapter, and § 101.147(r) will continue to be co-primary with the FSS users of this spectrum until June 8, 2010 or until the relocation of the fixed service operations, whichever occurs sooner. After June 8, 2010, only FS operations in the band 19.26-19.3 GHz will continue to be co-primary with the FSS users. Notwithstanding this continued co-primary status, FS users in the 19.26-19.3 GHz band remain subject to the relocation procedures of §§ 101.85 through 101.95. If no agreement is reached during the negotiations, an FSS licensee may initiate relocation procedures. Under the relocation procedures, the incumbent is required to relocate, provided that the FSS licensee meets the conditions of § 101.91.

(c) Negotiation periods are defined as follows:

(1) Non-public safety incumbents will have a two-year negotiation period.

(2) Public safety incumbents will have a three-year negotiation period.

§ 101.89 Negotiations.

(a) The negotiation is triggered by the fixed-satellite service (FSS) licensee, who must contact the fixed services (FS) licensee and request that negotiations begin.

(b) Once negotiations have begun, an FS licensee may not refuse to negotiate and all parties are required to negotiate in good faith. Good faith requires each party to provide information to the other that is reasonably necessary to facilitate the relocation process. In evaluating claims that a party has not negotiated in good faith, the FCC will consider, inter alia, the following factors:

(1) Whether the FSS licensee has made a bona fide offer to relocate the FS licensee to comparable facilities in accordance with § 101.91(b);

(2) If the FS licensee has demanded a premium, the type of premium requested (e.g., whether the premium is directly related to relocation, such as system-wide relocations and analog-to-digital conversions, versus other types of premiums), and whether the value of the premium as compared to the cost of providing comparable facilities is disproportionate (i.e., whether there is a lack of proportion or relation between the two);

(3) What steps the parties have taken to determine the actual cost of relocation to comparable facilities;

(4) Whether either party has withheld information requested by the other party that is necessary to estimate relocation costs or to facilitate the relocation process.

(c) Any party alleging a violation of our good faith requirement must attach an independent estimate of the relocation costs in question to any documentation filed with the Commission in support of its claim. An independent cost estimate must include a specification for the comparable facility and a statement of the costs associated with providing that facility to the incumbent licensee.

(d) Negotiations will commence when the FSS licensee informs the FS licensee in writing of its desire to negotiate. Negotiations will be conducted with the goal of providing the FS licensee with comparable facilities, defined as facilities possessing the following characteristics:

(1) Throughput. Communications throughput is the amount of information transferred within a system in a given amount of time. If analog facilities are being replaced with analog, the FSS licensee is required to provide the FS licensee with an equivalent number of 4 kHz voice channels. If digital facilities are being replaced with digital, the FSS licensee must provide the FS licensee with equivalent data loading bits per second (bps). FSS licensees must provide FS licensees with enough throughput to satisfy the FS licensee's system use at the time of relocation, not match the total capacity of the FS system.

(2) Reliability. System reliability is the degree to which information is transferred accurately within a system. FSS licensees must provide FS licensees with reliability equal to the overall reliability of their system. For digital data systems, reliability is measured by the percent of time the bit error rate (BER) exceeds a desired value, and for analog or digital voice transmissions, it is measured by the percent of time that audio signal quality meets an established threshold. If an analog voice system is replaced with a digital voice system, only the resulting frequency response, harmonic distortion, signal-to-noise ratio and its reliability will be considered in determining comparable reliability.

(3) Operating costs. Operating costs are the cost to operate and maintain the FS system. FSS licensees must compensate FS licensees for any increased recurring costs associated with the replacement facilities (e.g., additional rental payments, increased utility fees) for five years after relocation. FSS licensees may satisfy this obligation by making a lump-sum payment based on present value using current interest rates. Additionally, the maintenance costs to the FS licensee must be equivalent to the 18 GHz system in order for the replacement system to be considered comparable.

§ 101.91 Involuntary relocation procedures.

(a) If no agreement is reached during the negotiations period, an FSS licensee may initiate relocation procedures under the Commission's rules. FSS licensees are obligated to pay to relocate only the specific microwave links from which their systems may receive interference. Under these procedures, the FS licensee is required to relocate, provided that the FSS licensee:

(1) Guarantees payment of relocation costs, including all engineering, equipment, site and FCC fees, as well as any legitimate and prudent transaction expenses incurred by the FS licensee that are directly attributable to the relocation, subject to a cap of two percent of the hard costs involved. Hard costs are defined as the actual costs associated with providing a replacement system, such as equipment and engineering expenses. FSS licensees are not required to pay FS licensees for internal resources devoted to the relocation process. FSS licensees are not required to pay for transaction costs incurred by FS licensees during the negotiations once the negotiation is initiated, or for fees that cannot be legitimately tied to the provision of comparable facilities;

(2) Completes all activities necessary for implementing the replacement facilities, including engineering and cost analysis of the relocation procedure and, if radio facilities are used, identifying and obtaining, on the incumbents' behalf, new microwave frequencies and frequency coordination; and

(3) Builds the replacement system and tests it for comparability with the existing 18 GHz system.

(b) Comparable facilities. The replacement system provided to an incumbent during a relocation must be at least equivalent to the existing FS system with respect to the following three factors:

(1) Throughput. Communications throughput is the amount of information transferred within a system in a given amount of time. If analog facilities are being replaced with analog, the FSS licensee is required to provide the FS licensee with an equivalent number of 4 kHz voice channels. If digital facilities are being replaced with digital, the FSS licensee must provide the FS licensee with equivalent data loading bits per second (bps). FSS licensees must provide FS licensees with enough throughput to satisfy the FS licensee's system use at the time of relocation, not match the total capacity of the FS system.

(2) Reliability. System reliability is the degree to which information is transferred accurately within a system. FSS licensees must provide FS licensees with reliability equal to the overall reliability of their system. For digital data systems, reliability is measured by the percent of time the bit error rate (BER) exceeds a desired value, and for analog or digital voice transmissions, it is measured by the percent of time that audio signal quality meets an established threshold. If an analog voice system is replaced with a digital voice system, only the resulting frequency response, harmonic distortion, signal-to-noise ratio and its reliability will be considered in determining comparable reliability.

(3) Operating costs. Operating costs are the cost to operate and maintain the FS system. FSS licensees must compensate FS licensees for any increased recurring costs associated with the replacement facilities (e.g., additional rental payments, increased utility fees) for five years after relocation. FSS licensees may satisfy this obligation by making a lump-sum payment based on present value using current interest rates. Additionally, the maintenance costs to the FS licensee must be equivalent to the 18 GHz system in order for the replacement system to be considered comparable.

(c) The FS licensee is not required to relocate until the alternative facilities are available to it for a reasonable time to make adjustments, determine comparability, and ensure a seamless handoff.

(d) If the FS licensee demonstrates to the Commission that the new facilities are not comparable to the former facilities, the Commission may require the FSS licensee to further modify or replace the FS licensee's equipment.

§ 101.95 Sunset provisions for licensees in the 18.58-19.26 GHz band.

(a) FSS licensees are not required to pay relocation costs after the relocation rules sunset (see §§ 74.502(c), 74.602(g), and 78.18(a)(4) of this chapter, and § 101.147 (a) and (r)). Once the relocation rules sunset, an FSS licensee may require the incumbent to cease operations, provided that the FSS licensee intends to turn on a system within interference range of the incumbent, as determined by TIA Bulletin 10-F or any standard successor. FSS licensee notification to the affected FS licensee must be in writing and must provide the incumbent with no less than six months to vacate the spectrum. After the six-month notice period has expired, the FS licensee must turn its license back into the Commission, unless the parties have entered into an agreement which allows the FS licensee to continue to operate on a mutually agreed upon basis.

(b) If the parties cannot agree on a schedule or an alternative arrangement, requests for extension will be accepted and reviewed on a case-by-case basis. The Commission will grant such extensions only if the incumbent can demonstrate that:

(1) It cannot relocate within the six-month period (e.g., because no alternative spectrum or other reasonable option is available); and

(2) The public interest would be harmed if the incumbent is forced to terminate operations (e.g., if public safety communications services would be disrupted).

§ 101.97 Future licensing in the 18.58-19.30 GHz band.

(a) After June 8, 2000, all major modifications and extensions to existing FS systems in the 18.58-19.30 band (with the exception of certain low power operations authorized under § 101.147(r)(10)) will be authorized on a secondary basis to FSS systems. All other modifications will render the modified FS license secondary to FSS operations, unless the incumbent affirmatively justifies primary status and the incumbent FS licensee establishes that the modification would not add to the relocation costs for FSS licensees. Incumbent FS licensees will maintain primary status for the following technical changes:

(1) Decreases in power;

(2) Minor changes (increases or decreases) in antenna height;

(3) Minor location changes (up to two seconds);

(4) Any data correction which does not involve a change in the location of an existing facility;

(5) Reductions in authorized bandwidth;

(6) Minor changes (increases or decreases) in structure height;

(7) Changes (increases or decreases) in ground elevation that do not affect centerline height;

(8) Minor equipment changes.

(b) The provisions of § 101.83 are applicable, notwithstanding any other provisions of this section.

24. Section 101.101 is amended by removing the entry for the 17,700-18,580 MHz band and adding two entries in numerical order to read as follows:

§ 101.101 Frequency availability.

Frequency band (MHz) | Radio service: Common carrier (Part 101) | Radio service: Private radio (Part 101) | Radio service: Broadcast auxiliary (Part 74) | Radio service: Other (Parts 15, 21, 22, 24, 25, 74, 78 & 100) | Radio service: Notes
* * * * * * *
17,700-18,300 | CC | OFS | TV BAS | CARS
18,300-18,580 | CC | OFS | TV BAS | CARS SAT
* * * * * * *

* * * * *

25. In § 101.147, paragraph (a) is amended by removing the entries 17,700-18,820 MHz, 18,820-18,920 MHz, 18,920-19,160 MHz, 19,160-19,260 MHz and 19,260-19,700 MHz and by adding four new entries and note 30 in numerical order, paragraph (r) introductory text is revised and paragraph (r)(10)(iv) is added to read as follows:

§ 101.147 Frequency assignments.

(a) * * *

17,700-18,300 MHz (10) (15)

18,300-18,580 MHz (5) (10) (15)

18,580-19,300 MHz (22) (30)

19,300-19,700 MHz (5) (10) (15)

* * * * *

Notes

* * * * *

(30) The frequency band 18,580-19,300 GHz is not available for new licensees after June 8, 2000, except for low power indoor stations in the band 18,820-18,870 MHz and 19,160-19,210 MHz.

* * * * *

(r) 17,700 to 19,700 and 24,250 to 25,250 MHz. Stations operating on the following frequencies in the band 18.58-18.8 GHz that were licensed or had applications pending before the Commission as of June 8, 2000 may continue those operations on a shared co-primary basis with other services under parts 21, 25, and 74 of this chapter until June 8, 2010. Those stations operating on the following frequencies in the band 18.8-19.3 GHz that were licensed or had applications pending before the Commission as of September 18, 1998 may continue those operations on a shared co-primary basis with other services under parts 21, 25, and 74 of this chapter until June 8, 2010. After June 8, 2010, operations in the 18.58-19.26 GHz band are not entitled to protection from fixed-satellite service operations and must not cause unacceptable interference to fixed-satellite service station operations. No new part 101 licenses will be granted in the 18.58-19.3 GHz band after June 8, 2000, except for certain low power operations authorized under paragraph (r)(10) of this section, which may continue to operate on a co-primary basis. Licensees may use either a two-way link or one frequency of a frequency pair for a one-way link and must coordinate proposed operations pursuant to the procedures required in § 101.103. (Note, however, that stations authorized as of September 9, 1983, to use frequencies in the band 17.7-19.7 GHz may, upon proper application, continue to be authorized for such operations, consistent with the conditions related to the 18.58-19.30 GHz band.)

* * * * *

(10) * * *

(iv) Low power stations authorized in the band 18.8-19.3 GHz after June 8, 2000 are restricted to indoor use only.

* * * * *

[FR Doc. 00-22238 Filed 9-6-00; 8:45 am]

BILLING CODE 6712-01-P